DEPARTMENT OF THE INTERIOR

Fish and Wildlife Service

[FWS-HQ-FAC-2024-N047; FF09F42300 FVWF97920900000 XXX]

Sport Fishing and Boating Partnership Council; Public Meeting

AGENCY: Fish and Wildlife Service, Interior.

ACTION: Notice of meeting.

SUMMARY: The U.S. Fish and Wildlife Service gives notice of a public meeting of the Sport Fishing and Boating Partnership Council (Council), in accordance with the Federal Advisory Committee Act.

DATES:

Meetings: The Council will meet on Tuesday, October 29, 2024, from 8:30 a.m. to 4:45 p.m. and Wednesday, October 30, 2024, from 8:30 a.m. to 12:30 p.m. mountain time.

Registration: Registration is required. The deadline for registration is October 25, 2024.

Accessibility: The deadline for accessibility accommodation requests is October 22, 2024. Please see Accessibility Information, below.

For additional public input deadlines, see Public Input, below.

ADDRESSES: The meeting will take place at the U.S. Fish and Wildlife Service Bozeman Fish Technology Center at 4050 Bridger Canyon Road, Bozeman, MT 59715. Virtual participation will also be available via teleconference and broadcast over the internet. To register and receive the web address and telephone number for virtual participation, contact the Designated Federal Officer (see FOR FURTHER INFORMATION CONTACT).

FOR FURTHER INFORMATION CONTACT: Tom McCann, Designated Federal Officer, by email at thomas_mccann@fws.gov, or by telephone at 571-329-3206. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Established in 1993, the Sport Fishing and Boating Partnership Council (Council) advises the Secretary of the Interior, through the Director of the U.S. Fish and Wildlife Service (Service), and the Secretary of Commerce, through the Assistant Administrator of the National Marine Fisheries Service of the National Oceanic and Atmospheric Administration (NOAA), on aquatic conservation endeavors that benefit recreational fishery resources and recreational boating and that encourage partnerships among industry, the public, and government.

Meeting Agenda

• Opening remarks

• National Fish Habitat Partnership board seat nomination

• Recreational Boating and Fishing Foundation board seat review and nomination

• Agency updates

• Subcommittee report out

• Council business and open discussion

• Public comment period

The final agenda and other related meeting information will be posted on the Council's website at https://www.fws.gov/program/sport-fishing-and-boating-partnership-council.

Public Input

If you wish to provide oral public comment or provide a written comment for the Council to consider, contact the Designated Federal Officer (see FOR FURTHER INFORMATION CONTACT). Written comments should be received no later than Friday, October 25, 2024, to be considered by the Council during the meeting.

Requests to address the Council during the meeting will be accommodated in the order the requests are received. Depending on the number of people who want to comment and the time available, the amount of time for individual oral comments may be limited. Interested parties should contact the Designated Federal Officer by Friday, October 25, 2024 (see FOR FURTHER INFORMATION CONTACT) for placement on the public speaker list for this meeting. Registered speakers who wish to expand upon their oral statements, or those who had wished to speak but could not be accommodated on the agenda, may submit written statements to the Designated Federal Officer up to 30 days following the meeting.

Accessibility Information

Please make requests in advance for sign language interpreter services, assistive listening devices, language translation services, or other reasonable accommodations. Please contact the Designated Federal Officer (see FOR FURTHER INFORMATION CONTACT) no later than October 22, 2024, to give the Service sufficient time to process your request. All reasonable accommodation requests are managed on a case-by-case basis.

Public Disclosure

Before including your address, phone number, email address, or other personal identifying information in any comments, you should be aware that your entire comment—including your personal identifying information—may be made publicly available at any time. While you can ask us in your comment to withhold your personal identifying information from public review, we cannot guarantee that we will be able to do so.

Authority

5 U.S.C. ch. 10.

David A. Miko,
Assistant Director, Fish and Aquatic Conservation Program.

[FR Doc. 2024-22830 Filed 10-2-24; 8:45 am]

BILLING CODE 4333-15-P